SECURITIES AND EXCHANGE COMMISSION

[Release No. 34-43201; File No. SR-Phlx-00-71]

Self-Regulatory Organizations; Notice of Filing and Immediate Effectiveness of Proposed Rule Change by the Philadelphia Stock Exchange, Inc., Relating to an Options Specialist Shortfall Fee

August 23, 2000.

Correction

In notice document 00-22014 beginning on page 52465 in the issue of Tuesday, August 29, 2000, the docket number is corrected to read as set forth above.

[FR Doc. C0-22014 Filed 9-15-00; 8:45 am]

BILLING CODE 1505-01-D

SECURITIES AND EXCHANGE COMMISSION

[Release No. 34-43210; File No. SR-SCCP-00-01]

Self-Regulatory Organizations; Stock Clearing Corporation of Philadelphia; Notice of Filing of Proposed Rule Change Relating to the Eligibility of Holders of Equity Trading Permits Issued by the Philadelphia Stock Exchange, Inc. to be Participants of the Stock Clearing Corporation of Philadelphia

August 25, 2000.

Correction

In notice document 00-22485 beginning on page 53259 in the issue of Friday, September 1, 2000, the date is added to read as set forth above.

[FR Doc. C0-22485 Filed 9-15-00; 8:45 am]

BILLING CODE 1505-01-D

SECURITIES AND EXCHANGE COMMISSION

[Release No. 34-43206; File No. SR-PHLX-00-08]

Self-Regulatory Organizations; Notice of Filing and Order Granting Accelerated Approval to a Proposed Rule Change and Amendment No. 1 by the Philadelphia Stock Exchange, Incorporated, Establishing a Pilot Program Relating to Price Improvement in a Decimals Environment

August 25, 2000.

Correction

In notice document 00-22419 beginning on page 53250 in the issue of Friday, September 1, 2000, the docket number is added to read as set forth above.

[FR Doc. C0-22419 Filed 9-15-00; 8:45 am]

BILLING CODE 1505-01-D

SECURITIES AND EXCHANGE COMMISSION

[Release No. 34-43110; file No. SR-NYSE-00-19]

Self-Regulatory Organizations; Notice of Filing of Proposed Rule Change by the New York Stock Exhcange, Inc. Relating to Rule 1006 of NYSe District+™, the Exchange's Automatic Execution Facility for Certain Limit Orders

August 2, 2000.

Correction

In notice document 00-20098 beginning on page 48776 in the issue of Wednesday, August 9, 2000, make the following corrections:

On page 48776 the heading is corrected by adding the date “August 2, 2000.” and on page 48778, the first column, last five lines of IV. Solicitation of Comments, “[insert date 21 days from date of publication]” should read “August 30, 2000”.

[FR Doc. C0-20098 Filed 9-15-00; 8:45 am]

BILLING CODE 1505-01-D